DEPARTMENT OF AGRICULTURE

Submission for OMB Review; Comment Request; Reinstatement

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by May 11, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Equal Opportunity Compliance Review Reporting Tool.

OMB Control Number: 0596-0215.

Summary of Collection: All Federal agencies and the entities receiving Federal financial assistance are prohibited from discriminating in the delivery of programs and services. Agencies must comply with equal opportunity laws, Title VI of the Civil Rights Act of 1964, as amended; Title IX of the Education Amendments Act of 1972; The Age Discrimination Act of 1975, as amended; Section 504 of the Rehabilitation Act of 1973, as amended; and Executive orders prohibiting discrimination in the delivery of all programs and services to the public. Federal agencies and entities receiving Federal Financial Assistance are prohibited from discriminating. Federal Financial Assistance is defined as, “Federal monies given by grants, cooperative agreements, commercial special use permits, training, loan/temporary assignment of Federal personnel, loan/use of Federal property at below market value.”

The equal opportunity laws require agencies to conduct compliance reviews to ensure that entities receiving Federal Financial Assistance from the government are adhering to the nondiscrimination statues. The statutes require that prior to awarding support or issuing permits, the Federal government shall conduct pre-award reviews to ensure that potential recipients understand their responsibilities to provide services equitable pursuant to the law. Thereafter, during the partnership with the agency, ongoing monitoring will take place to ensure the public is being served without any barriers or discrimination.

Need and Use of the Information: Forest Service employees will use form FS-1700-6, Equal Opportunity Compliance Review Record, to document demographics (race, ethnicity, and gender) and collect information regarding actions taken by recipients of Federal financial assistance to ensure the public receives services without discrimination or barriers to access, and that recipients' employees understand their customer services role.

Collection will occur during face-to-face meetings or telephone interviews conducted by Forest Service employees as part of the pre-award and post award process. The pre-award interview will take place prior to the award of a grant, signing of a cooperative agreement, letting of commercial special use permit, or similar activity. The post award interview will take place once every 5 years, or upon report/discovery of discrimination.

The information collected will only be shared with other Federal agencies who share in the financial assistance activities with the Forest Service. Monitoring reviews have been a responsibility of the Federal government since 1964. Without the ability to monitor recipients of Federal financial assistance, the Forest Service would not be able to ensure compliance with laws and statutes. The Agency would not be aware of potential violations, thereby resulting in potential discriminatory practices.

Description of Respondents: Business or other for-profit; Not-for-profit Institutions; State, Local or Tribal Government.

Number of Respondents: 9,500.

Frequency of Responses: Recordkeeping; Reporting: Annually.

Total Burden Hours: 18,756.

Dated: April 6, 2022.
Levi S. Harrell,
Departmental Information Collection Clearance Officer.

[FR Doc. 2022-07701 Filed 4-8-22; 8:45 am]

BILLING CODE 3411-15-P